NUCLEAR REGULATORY COMMISSION

10 CFR Part 72

[NRC-2016-0155]

RIN 3150-AJ80

List of Approved Spent Fuel Storage Casks: Holtec International HI-STORM UMAX Canister Storage System; Certificate of Compliance No. 1040, Amendment No. 2

AGENCY: Nuclear Regulatory Commission.

ACTION: Direct final rule; confirmation of effective date.

SUMMARY: The U.S. Nuclear Regulatory Commission (NRC) is confirming the effective date of January 9, 2017, for the direct final rule that was published in the Federal Register on October 25, 2016. The direct final rule amended the NRC's spent fuel storage regulations by revising the “List of approved spent fuel storage casks” to include Amendment No. 2 to Certificate of Compliance (CoC) No. 1040 for the Holtec International HI-STORM UMAX Canister Storage System.

DATES: Effective Date: The effective date of January 9, 2017, for the direct final rule published October 25, 2016 (81 FR 73335), is confirmed.

ADDRESSES: Please refer to Docket ID NRC-2016-0155 when contacting the NRC about the availability of information for this action. You may obtain publicly-available information related to this action by any of the following methods:

• Federal Rulemaking Web site: Go to http://www.regulations.gov and search for Docket ID NRC-2016-0155. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Gregory Trussell, Office of Nuclear Material Safety and Safeguards, U.S. Nuclear Regulatory Commission, Washington, DC 20555-0001; telephone: 301-415-6445; email: Gregory.Trussell@nrc.gov.

SUPPLEMENTARY INFORMATION: On October 25, 2016 (81 FR 73335), the NRC published a direct final rule amending its regulations in § 72.214 of title 10 of the Code of Federal Regulations by revising the “List of approved spent fuel storage casks” to include Amendment No. 2 to CoC No. 1040 for the Holtec International HI-STORM UMAX Canister Storage System. Amendment No. 2 adds new fuel types to the HI-STORM UMAX Canister Storage System and updates an existing fuel type description. Additionally, Amendment No. 2 updates Table 3-4 of Appendix B of the CoC to reflect correct terminology and makes editorial changes to Appendix B of the CoC to clarify the description of the top surface pad.

In the direct final rule, the NRC stated that if no significant adverse comments were received, the direct final rule would become effective on January 9, 2017. As described more fully in the direct final rule, a significant adverse comment is a comment where the commenter explains why the rule would be inappropriate, including challenges to the rule's underlying premise or approach, or would be ineffective or unacceptable without a change.

The NRC received one comment on the direct final rule (ADAMS Accession No. ML16305A134). The NRC determined that this comment is not within the scope of the direct final rule, which is limited to the specific changes contained in Amendment No. 2 to CoC No. 1040. The NRC also determined that this was not a significant adverse comment and did not make any changes to the direct final rule as a result of the public comment.

Therefore, because no significant adverse comments were received, the direct final rule will become effective as scheduled. The final CoC, Technical Specifications, and Safety Evaluation Report can be viewed in ADAMS under Accession No. ML16341B061.

Dated at Rockville, Maryland, this 12th day of January 2017.
For the Nuclear Regulatory Commission.
Cindy Bladey,
Chief, Rules, Announcements, and Directives Branch, Division of Administrative Services, Office of Administration.

[FR Doc. 2017-01178 Filed 1-30-17; 8:45 am]

BILLING CODE 7590-01-P